ENVIRONMENTAL PROTECTION AGENCY

[EPA-HQ-OPP-2007-0179; FRL-8133-5]

Issuance of Experimental Use Permits

AGENCY: Environmental Protection Agency (EPA).

ACTION: Notice.

SUMMARY: EPA has granted experimental use permits (EUPs) to the following pesticide applicants. An EUP permits use of a pesticide for experimental or research purposes only in accordance with the limitations in the permit.

FOR FURTHER INFORMATION CONTACT: Alan Reynolds, Biopesticides and Pollution Prevention Division (7511P), Office of Pesticide Programs, Environmental Protection Agency, 1200 Pennsylvania Ave., NW., Washington, DC 20460-0001; telephone number: (703) 605-0515; e-mail address: reynolds.alan@epa.gov.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the person listed under FOR FURTHER INFORMATION CONTACT.

B. How Can I Get Copies of this Document and Other Related Information?

1. Docket. EPA has established a docket for this action under docket identification (ID) number EPA-HQ-OPP-2007-0179. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. EUPs

EPA has issued the following EUPs:

264-EUP-140. Extension. Bayer CropScience LP, 2. T.W. Alexander Drive, Research Triangle Park, NC 27709. This EUP allows the use of 1,008 pounds of cotton seed containing the following plant incorporated protectant (PIP) in the amount specified: 0.016 pounds of Cry1Ab protein and the genetic material necessary for its production (vector pTDL004) in Events T303-3 and T304-40 cotton. This EUP allows the use of this seed on 84 acres of Events T303-3 and T304-40 cotton. Four trial protocols will be conducted, including:

• Efficacy testing.

• Agronomic evaluation.

• Dissemination of pollen evaluation.

• Production of sample material for use in regulatory studies.

The program is authorized only in the States of Arizona, California, Georgia, Louisiana, Mississippi, North Carolina, South Carolina, and Texas. The EUP is effective from March 8, 2007 to May 1, 2008.

An exemption from tolerance has been established for residues of the active ingredient in or on all cotton commodities. One comment was received from a private citizen in response to the notice of receipt for this permit application, which was published in the Federal Register on January 17, 2007 (72 FR 1993) (FRL-8105-7). The private citizen indicated that she opposed testing under this EUP except in fully enclosed greenhouses, and expressed the viewpoint that the permittee should be required to request permission from neighbors prior to testing. The Agency understands the commenter's concerns. Under the Federal Insecticide, Fungicide, and Rodenticide Act (FIFRA), the Agency is tasked with reviewing applications for EUPs for any pesticide, including PIPs, and granting such applications to the extent that the conditions of FIFRA section 5, and the regulations thereunder, have been met (subject to such terms and conditions as the Agency determines are warranted). In this instance, EPA has determined that the relevant statutory and regulatory conditions have been met. In addition, there is nothing in FIFRA or in the Agency's regulations enacted thereunder that compels, and EPA does not otherwise require, a permittee to notify neighbors prior to testing as suggested. Finally, although certain containment provisions were required per the experimental program, the Agency did not require testing to be conducted in fully enclosed greenhouses because such a requirement was not necessary to mitigate risk.

67979-EUP-6. Issuance. Syngenta Seeds, Inc., P.O. Box 12257, Research Triangle Park, NC 27709. This EUP allows the use of 62,173 pounds of corn seed containing the following plant incorporated protectants (PIPs) in the amounts specified: 0.916 pounds of Vip3Aa20 protein and the genetic material necessary for its production (vector pNOV1300) in Event MIR 162 corn, 0.046 pounds of Cry1Ab protein and the genetic material necessary for its production (vector pZO1502) in Event Bt11 corn, and 0.013 pounds of mCry3A protein and the genetic material necessary for its production (vector pZM26) in Event MIR 604 corn. This EUP allows the use of this seed on 536 acres of MIR 162 corn; 220 acres of Bt11 corn; 199 acres of MIR 604 corn; 469 acres of Bt11 x MIR 162 corn; and 468 acres of Bt11 x MIR 162 x MIR 604 corn for 2007-2008. Five trial protocols will be conducted, including:

• Breeding and observation.

• Insect efficacy.

• Agronomic evaluation.

• Inbred and hybrid seed production.

• Regulatory studies.

The program is authorized only in the States of California, Colorado, Florida, Georgia, Hawaii, Idaho, Illinois, Indiana, Iowa, Kansas, Kentucky, Louisiana, Maryland, Minnesota, Mississippi, Missouri, Nebraska, New York, Ohio, Puerto Rico, South Dakota, Texas, and Wisconsin. The EUP is effective from March 21, 2007 to March 31, 2008.

Permanent or temporary exemptions from tolerance have been established for residues of the active ingredients in or on all corn commodities.

67979-EUP-7. Issuance. Syngenta Seeds, Inc., P.O. Box 12257, Research Triangle Park, NC 27709. This EUP allows the use of 13,483 pounds of cotton seed containing the following plant incorporated protectants (PIPs) in the amounts specified: 0.010 pounds of Vip3Aa19 protein and the genetic material necessary for its production (vector pCOT1) in Event COT102 cotton and 0.082 pounds of Cry1Ab protein and the genetic material necessary for its production (vector pNOV4641) in Event COT67B cotton. This EUP allows the use of this seed on 28 acres of COT102 cotton; 28 acres of COT67B cotton; and 274 acres of COT102 x COT67B cotton. Five trial protocols will be conducted, including:

• Breeding and observation.

• Insect efficacy.

• Agronomic evaluation.

• Seed increase.

• Product characterization.

The program is authorized only in the States of Alabama, Arizona, Arkansas, California, Florida, Georgia, Hawaii, Louisiana, Mississippi, Missouri, North Carolina, Oklahoma, South Carolina, Tennessee, Texas, and Virginia. The EUP is effective from April 26, 2007 to April 30, 2008.

Permanent or temporary exemptions from tolerance have been established for residues of the active ingredients in or on all cotton commodities.

Authority: 7 U.S.C. 136c.

List of Subjects

Environmental protection, Experimental use permits.

Dated: June 6, 2007.
Janet L. Andersen,
Director, Biopesticides and Pollution Prevention Division, Office of Pesticide Programs.

[FR Doc. E7-11516 Filed 6-19-07; 8:45 am]

BILLING CODE 6560-50-S